DEPARTMENT OF THE TREASURY

Office of Foreign Assets Control

Additional Designations of Narcotics Trafficker-Related Blocked Persons

AGENCY: Office of Foreign Assets Control, Treasury.

ACTION: Notice.

SUMMARY: The Treasury Department's Office of Foreign Assets Control is publishing the names of 23 additional persons and 13 entities whose property and interests in property have been designated as specially designated narcotics traffickers pursuant to Executive Order 12978 of October 25, 1995; is supplementing information concerning two persons and one entity who have been designated as specially designated narcotics traffickers; and is removing the entries for two persons previously listed as specially designated narcotics traffickers.

DATES: The designations by the Office of Foreign Assets Control of additional persons identified in this notice whose property and interests in property have been blocked pursuant to Executive Order 12978 are effective on October 24, 2002. The removal of the Agudelo Galvez and Donneys Gonzalez from the list of specially designated narcotics traffickers is effective as of April 15, 2002 and August 5, 2002, respectively.

FOR FURTHER INFORMATION CONTACT: Office of Foreign Assets Control, Department of the Treasury, Washington, DC 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat” readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

On October 21, 1995, the President issued Executive Order 12978 (“the Order”), where he found that the actions of significant foreign narcotics traffickers centered in Colombia, and the unparalleled violence corruption, and harm that they cause in the United States and abroad constitute an extraordinary threat to the national security, foreign policy, and economy of the United States. The President identified four individuals whose assets are blocked pursuant to the Order. Additional persons have been blocked pursuant to the Order and Section 536.312 of the Narcotics Trafficking and Sanctions Regulations, 31 CFR part 356 (the “Regulations”), because they have been determined to play a significant role in narcotics trafficking centered in Colombia, to materially assist in or provide financial support or technological support for, or goods or services in support of other specially designated narcotics traffickers, or to be owned or controlled by, or to act for or on behalf of, persons designated pursuant to the Order (collectively “Specially Designated Narcotics Traffickers” or “SDNTs”). These additional blockings have been published in the Federal Register.

On October 24, 2002, the Office of Foreign Assets Control (“OFAC”), acting under authority delegated by the Secretary of the Treasury, in consultation with the Attorney General and the Secretary of the Treasury, designated an additional 23 individuals and 13 entities. Additionally, supplementary information is being added to existing SDNT entries for two persons and one entity and those entries are revised in their entirety. Finally, the entries for two SDNT individuals are being removed from the list of specially designated narcotics traffickers because OFAC has determined that these individuals no longer meet the criteria for designation as SDNTs.

Appendix A lists the names of persons with respect to whom transactions are subject to the various economic sanctions programs administered by the Office of Foreign Assets Control. Persons, and their known aliases, including supplemental information, will be added to appendix A to 31 CFR chapter V, through a separate Federal Register notice, as “specially designated narcotics traffickers” identified by the initials “[SDNT]”. Additionally, the two names identified for removal will be deleted from the appendix A to 31 CFR chapter V through a separate Federal Register notice.

Additional Designations. On October 24, 2002, the Office of Foreign Assets Control, acting under authority delegated by the Secretary of the Treasury, in consultation with the Secretary of State and the Attorney General, designated an additional 23 individuals and 13 entities whose property and interests in property are blocked. The names of these additional persons (individuals and entities) are set forth in the list below.

The designations by the Office of Foreign Assets control pursuant to Executive Order 12978 of these additional persons listed below are effective on October 24, 2002. All property and interests in property of any designated person, including but not limited to all accounts, that are or come within the United States or that are or come within the possession or control of United States persons, including their overseas branches, are blocked and may not be transferred, paid, exported, withdrawn, or otherwise dealt in, and all transactions or dealings by U.S. persons or within the United States in property or interests in property of any designated person are prohibited, unless licensed by the Office of Foreign Assets Control or exempted by statute.

Designations of foreign persons blocked pursuant to the Order are effective upon the date of determination by the Director of the Office of Foreign Assets Control, acting under authority delegated by the Secretary of the Treasury. Public notice of blocking is effective upon the date of filing with the Federal Register, or upon prior actual notice.

The list of additional SDNT designations follow:

1. AGRICOLA DOIMA DEL NORTE DEL VALLE LTDA., Carrera 4 No. 12-20 of. 206, Cartago, Valle, Colombia; Km 12 Via Santa Ana Molina, Hacienda Doima, Cartago, Colombia; NIT # 800144713-3 (Colombia) (entity).

2. AGROPECUARIA MIRALINDO S.A., Carrera 8N No. 17A-12, Cartago, Colombia; NIT # 836000446-4 (Colombia) (entity).

3. ARIZONA S.A., Carrera 8N No. 17A-12, Cartago, Colombia, NIT # 836000489-0 (Colombia) (entity).

4. BENAVIDEZ CHAVEZ, Alvaro Higinio, Carrera 8N No. 17A-12, Cartago, Colombia; c/o AGROPECUARIA MIRALINDO S.A., Cartago, Colombia; c/o ARIZONA S.A., Cartago, Colombia; DOB 1 Feb 1971; Passport 94295393 (Colombia); Cedula No. 94295393 (Colombia) (individual).

5. CARDONA GARCIA, Diomiro, Carrera 1 No. 12-53, Cartago, Valle, Colombia; Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; Passport 6233272 (Colombia); Cedula No. 6233272 (Colombia) (individual).

6. DURAN RAMIREZ, Pompilio, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; Passport 2534945 (Colombia); Cedula No. 2534945 (Colombia) (individual).

7. FLOREZ GRAJALES, Yudy Lorena (a.k.a. FLOREZ GRAJALES, Yudi Lorena), Carrera 78 No. 3-46, Cali, Colombia; Carrera 8N No. 17A-12, Cartago, Colombia; c/o AGROPECUARIA MIRALINDO S.A., Cartago, Colombia; c/o ARIZONA S.A., Cartago, Colombia; DOB 26 Jun 1978; Passport 32180561 (Colombia); Cedula No. 32180561 (Colombia) (individual).

8. GANADERIA EL VERGEL LTDA., Carrera 4 No. 12-20 of. 206, Cartago, Valle, Colombia; Km 7 Via Cartago-Obando, Hacienda El Vergel, Cartago, Valle, Colombia; NIT # 800146295-5 (Colombia) (entity).

9. GANADERIAS BILBAO LTDA., Carrera 4 No. 12-20 of. 206, Cartago, Valle, Colombia; Km 7 Via Cartago-Obando, Hacienda El Vergel, Cartago, Valle, Colombia; NIT # 800146290-9 (Colombia) (entity).

10. GARCIA DUQUE, Gustavo, Carrera 4 No. 12-20 of. 206, Cartago, Valle, Colombia; c/o INMOBILIARIA EL ESCORIAL LTDA., Cartago, Valle, Colombia; c/o INMOBILIARIA LINARES LTDA., Cartago, Valle, Colombia; DOB 30 Jun 1961; Passport 16213736 (Colombia); Cedula No. 16213736 (Colombia) (individual).

11. GARCIA GARCIA, Gabriel Alfonso, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; DOB 7 Jun 1976; Passport 16230989 (Colombia); Cedula No. 16230989 (Colombia) (individual).

12. GOMEZ APONTE, Laura Victoria, Carrera 4A No. 63N-29, Cali, Colombia; c/o LADRILLERA LA CANDELARIA LTDA., Cali, Colombia; DOB 31 Oct 1965; POB Cali, Valle, Colombia; Passport 31937650 (Colombia); Cedula No. 31937650 (Colombia) (individual).

13. GOMEZ BUSTAMANTE, Luis Hernando, Km 7 Via Cartago-Obando, Hacienda El Vergel, Cartago, Colombia; Km 12 Via Santa Ana Molina, Hacienda Doima, Cartago, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 14 Mar 1958; POB El Aguila, Valle, Colombia; Passport 16209410 (Colombia); Cedula No. 16209410 (Colombia) (individual).

14. GOMEZ GOMEZ, Viviana, Carrera 4 No. 12-20 of. 206, Cartago, Valle, Colombia; c/o AGRICOLA DOIMA DEL NORTE DEL VALLE LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 17 Oct 1982; NIT # 681946748-1 (Colombia) (individual).

15. GOMEZ JARAMILLO, Olga Cecilia, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 29 Feb 1956; Passport 31398070 (Colombia); Cedula No. 31398070 (Colombia) (individual).

16. HENAO GONZALEZ, Carlos Andres, Carrera 8N No. 17A-12, Cartago, Colombia; c/o AGRICOLA GANADERA HENAO GONZALEZ Y CIA. S.C.S., Cartago, Colombia; c/o AGROPECUARIA MIRALINDO S.A., Cartago, Colombia; c/o ARIZONA S.A., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 27 Nov 1980; Passport 75096405 (Colombia); Cedula No. 75096405 (Colombia) (individual).

17. HENAO GONZALEZ, Lina Marcela, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 10 May 1985; POB Cali, Valle, Colombia; Passports AF228090 (Colombia), TI-85051037834 (Colombia); NIT # 650000091-9 (Colombia); Cedula No. TI-85051037834 (Colombia) (individual).

18. HENAO GONZALEZ, Olga Patricia, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 18 Jan 1988; POB Cali, Valle, Colombia; Passports AG762459 (Colombia), RN12524986 (Colombia); NIT # 600018532-2 (Colombia); Cedula No. RN12524986 (Colombia) (individual).

19. HURTADO ROMERO, Jairo Jose, Carrera 42 No. 5B-81, Cali, Colombia; Carrera 8N No. 17A-12, Cartago, Colombia; c/o ARIZONA S.A., Cartago, Colombia; c/o MAQUINARIA TECNICA Y TIERRAS LTDA., Cali, Colombia; Passport 13809079 (Colombia); Cedula No. 13809079 (Colombia) (individual).

20. INMOBILIARIA EL ESCORIAL LTDA., Carrera 4 No. 12-20 of. 206, Cartago, Valle Colombia; Carrera 5 No. 18-20 Local 12, Cartago, Valle, Colombia; NIT # 800146869-2 (Colombia) (entity).

21. INMOBILIARIA LINARES LTDA., Carrera 4 No. 12-20 of. 206, Cartago, Valle, Colombia; NIT # 800146860-7 (Colombia) (entity).

22. INMOBILIARIA PASADENA LTDA., Carrera 4 No. 12-20 of. 206, Cartago, Valle, Colombia; NIT # 800146861-4 (Colombia) (entity).

23. INVERSIONES LA QUINTA Y CIA. LTDA., Diagonal 29 No. 36-10 of. 801, Cali, Colombia; Diagonal 27 No. 27-104, Cali, Colombia; NIT # 800160387-2 (Colombia) (entity).

24. JIMENEZ BEDOYA, Maria Adriana, Carrera 4 No. 12-20 of. 206, Cartago, Valle, Colombia; c/o INMOBILIARIA PASADENA LTDA., Cartago, Valle, Colombia; c/o ORGANIZACION LUIS HERNANDO GOMEZ BUSTAMANTE Y CIA. S.C.S., Cartago, Valle, Colombia; DOB 13 Apr 1971; Passport 31417388 (Colombia); Cedula No. 31417388 (Colombia) (individual).

25. LADRILLERA LA CANDELARIA LTDA., Avenida 6 Norte No. 17N-92, of. 514, Cali, Colombia; Correg. Buchitolo, Vereda Tres Esquinas, Candelaria, Colombia; NIT # 800119741-4 (Colombia) (entity).

26. LOPRETTO DURAN, Jorge Enrique, Carrera 4 No. 12-20 of. 206, Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o VISCAYA LTDA., Cartago, Valle, Colombia; DOB 8 Aug 1962; Passport 16215409 (Colombia); Cedula No. 16215409 (Colombia) (individual).

27. MENDEZ SALAZAR, John Jairo, Calle 1 No. 56-109 Casa 32, Cali, Colombia; Carrera 42 No. 5B-81, Cali, Colombia; c/o MAQUINARIA TECNICA Y TIERRAS LTDA., Cali, Colombia; Passport 98515360 (Colombia); Cedula No. 98515360 (Colombia) (individual).

28. MONTES OCAMPO, Jose Alberto, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; DOB 24 Feb 1965; Passport 79339330 (Colombia); Cedula No. 79339330 (Colombia) (individual).

29. MONTOYA LUNA E HIJOS Y CIA. S.C.S., Carrera 85B No. 13A-136, Cali, Colombia; NIT # 800077316-5 (Colombia) (entity).

30. MONTOYA SANCHEZ, Diego Leon, Diagonal 27 No. 27-104, Cali, Colombia; c/o INVERSIONES LA QUINTA Y CIA. LTDA., Cali, Colombia; c/o LADRILLERA LA CANDELARIA LTDA., Cali, Colombia; c/o MONTOYA LUNA E HIJOS Y CIA. S.C.S., Cali, Colombia; DOB 11 Jan 1958; POB Trujillo, Valle, Colombia; Passport 16348515 (Colombia); Cedula No. 16348515; (Colombia) (individual).

31. MONTOYA SANCHEZ, Eugenio, (a.k.a. CARVAJAL TAFURT, Hector Fabio), Diagonal 27 No. 27-104, Cali, Colombia; Calle 7 No. 45-25, Cali, Colombia; c/o LADRILLERA LA CANDELARIA LTDA., Cali, Colombia; DOB 17 Apr 1970, alt. DOB 15 Apr 1972; POB Trujillo, Valle, Colombia; Passports AC814028 (Colombia), 94307307 (Colombia) 16836750 (Colombia); Cedula No. 94307307 (Colombia), 16836750 (Colombia) (individual).

32. MONTOYA SANCHEZ, Juan Carlos, Carrera 85B No. 13A-136, Cali, Colombia; c/o MONTOYA LUNA E HIJOS Y CIA. S.C.S., Cali, Colombia; DOB 3 Sep 1962; POB Riofrio, Valle, Colombia; Passport 16357049 (Colombia); Cedula No. 16357049 (Colombia) (individual).

33. ORGANIZACION LUIS HERNANDO GOMEZ BUSTAMANTE Y CIA S.C.S., Carrera 4 No. 12-20 of. 206, Cartago, Valle, Colombia; NIT # 800140477-1 (Colombia) (entity).

34. RIOS LOZANO, Alexander, Carrera 42 No. 5B-81, Cali, Colombia; Carrera 8N No. 17A-12, Cartago, Colombia; c/o AGROPECUARIA MIRALINDO S.A., Cartago, Colombia; c/o ARIZONA S.A., Cartago, Colombia; c/o MAQUINARIA TECNICA Y TIERRAS LTDA., Cali, Colombia; DOB 15 Jan 1974; Passport 94402123 (Colombia); Cedula No. 94402123 (Colombia) (individual).

35. RUIZ CASTANO, Maria Helena, c/o LADRILLERA LA CANDELARIA LTDA., Cali, Colombia; DOB 17 Nov 1970; Passport 66901635 (Colombia); Cedula No. 66901635 (Colombia) (individual).

36. VISCAYA LTDA., (a.k.a VIZCAYA LTDA.), Carrera 3 No. 11-99, Cartago, Valle, Colombia; Carrera 4 No. 12-20 of. 206, Cartago, Valle, Colombia; Km 7 Via Cartago-Obando, Hacienda El Vergel, Cartago, Colombia; NIT # 800054357-8 (Colombia) (entity).

Supplemental Information on Existing Specially Designated Narcotics Traffickers. Supplementary information is added to existing SDNT entries for two individuals and one entity and those entries are revised in their entirety.

1. GONZALEZ BENITEZ, Olga Patricia, Hacienda Coque, Cartago, Colombia; Carrera 4 No. 16-04 apt. 303, Cartago, Colombia; Avenida 4 Oeste No. 5-97 Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; DOB 4 Aug 1965; POB Cartago, Valle, Colombia; Passports AH567983 (Colombia), 29503761 (Colombia); Cedula No. 29503761 (Colombia) (individual).

2. HENAO MONTOYA, Arcangel de Jesus; Hacienda Coque, Cartago, Colombia; Carrera 4 No. 16-04 apt. 303, Cartago, Colombia; Carrera 42 No. 5B-81, Cali, Colombia; c/o AGRICOLA GANADERA HENAO GONZALEZ Y CIA. SCS., Cartago, Colombia; c/o AGROPECUARIA MIRALINDO S.A., Carago, Colombia; c/o ARIZONA S.A., Cartago, Colombia; c/o COMPANIA AGROINVERSORA HENAGRO LTDA., Cartago, Colombia; c/o DESARROLLOS COMERCIALES E INDUSTRIALES HENAO GONZALEZ Y CIA., S.C.S., Cartago, Colombia; c/o MAQUINARIA TECNICA Y TIERRAS LTDA., Cartago, Colombia; c/o ORGANIZACION EMPRESARIAL A DE J HENAO M E HIJOS Y CIA. S.C.S., Cartago, Colombia; DOB 7 Oct 1954; POB Cartago, Valle, Colombia; Passport 16215230 (Colombia); NIT# 16215230-1 (Colombia); Cedula No. 16215230 (Colombia) (individual).

3. MAQUINARIA TECNICA Y TIERRAS LTDA. (a.k.a. M.T.T. LTDA.), Carrera 4A No. 16-04, Cartago, Colombia; Carrera 42 No. 5B-81, Cali, Colombia; NIT # 800084233-1 (Colombia) (entity).

Removals. The entries for two SDNT individuals are being removed from the list of SDNTs because OFAC has determined that these individuals no longer meet the criteria for designation as SDNTs. All real and personal property of these individuals, including all accounts in which they have interests, which had been blocked solely due to their designations as SDNTs, are unblocked; and all lawful transactions involving U.S. persons and these individuals are permissible.

1. Lieride Agudelo Galvez was designated on January 21, 1997. See 62 FR 2903, Jan. 21, 1997.

2. Federico Donneys Gonzalez was designated on October 24, 1995. See 60 FR 54582, Oct. 24, 1995.

Dated: December 23, 2002.
R. Richard Newcomb,
Director, Office of Foreign Assets Control.
Approved: December 31, 2002.
Kenneth Lawson,
Assistant Secretary (Enforcement), Department of the Treasury.

[FR Doc. 03-3478 Filed 2-11-03; 8:45 am]

BILLING CODE 4810-25-P